DEPARTMENT OF HOUSING AND URBAN DEVELOPMENT

[Docket No. FR-5341-C-02]

HUD's Fiscal Year (FY) 2009 NOFA for the Continuum of Care Homeless Assistance Program; Technical Correction

AGENCY: Office of the Assistant Secretary for Community Planning and Development, HUD.

ACTION: Notice; correction.

SUMMARY: On September 25, 2009, HUD posted on its Web site the Notice of Funding Availability (NOFA) for the Continuum of Care (CoC) Homeless Assistance Program for Fiscal Year 2009. The technical corrections to the NOFA are available on the HUD Web site at http://www.hud.gov, on HUD's Homelessness Resource Exchange http://www.hudhre.info, and on the Grants.gov Web site at http://www.grants.gov. The CFDA numbers for the Continuum of Care (CoC) Homeless Assistance Program are 14.235, 14.238, and 14.249. The deadline for the submission of applications has been moved to November 25, 2009 at 2 p.m. ET.

FOR MORE INFORMATION CONTACT: For questions concerning these technical corrections, please contact the e-snaps Virtual Help Desk at http://www.hudhre.info/helpdesk.

Dated: October 26, 2009.
Mercedes Márquez,
Assistant Secretary for Community Planning and Development.

[FR Doc. E9-26533 Filed 11-3-09; 8:45 am]

BILLING CODE 4210-67-P